DEPARTMENT OF ENERGY

Federal Energy Regulatory Commission

Combined Notice of Filings #1

June 15, 2005.

Take notice that the Commission received the following electric rate filings

Docket Numbers: ER00-2706-003.

Applicants: Foote Creek IV, LLC.

Description: Foote Creek IV, LLC submits its triennial updated market analysis in compliance with FERC's July 12, 2000 Order.

Filed Date: 06/09/2005.

Accession Number: 20050614-0090.

Comment Date: 5 p.m. Eastern Time on Thursday, June 30, 2005.

Docket Numbers: ER02-2551-002.

Applicants: Cargill Power Markets, LLC.

Description: Cargill Power Markets, LLC notifies FERC of a change in status with respect to its market-based rate authority under ER02-2551.

Filed Date: 06/09/2005.

Accession Number: 20050614-0091.

Comment Date: 5 p.m. Eastern Time on Thursday, June 30, 2005.

Docket Numbers: ER04-944-001.

Applicants: Reliant Energy Wholesale Generation, LLC.

Description: Reliant Energy Wholesale Generation, LLC submits revised tariff sheets to its FERC Electric Tariff, Third Revised Volume No. 1, in compliance with the Commission's order issued 5/5/2005, 111 FERC ¶ 61,159 (2005).

Filed Date: 06/07/2005.

Accession Number: 20050614-0097.

Comment Date: 5 p.m. Eastern Time on Tuesday, June 28, 2005.

Docket Numbers: ER04-1087-003.

Applicants: California Independent System Operator Corporation.

Description: The California Independent System Operator Corporation submits tariff revisions in compliance with FERC's 5/9/05 Order, 111 FERC ¶ 61,193 (2005).

Filed Date: 06/08/2005.

Accession Number: 20050614-0085.

Comment Date: 5 p.m. Eastern Time on Wednesday, June 29, 2005.

Docket Numbers: ER05-1091-000.

Applicants: Western Electricity Coordinating Council.

Description: Western Electricity Coordinating Councils (WECC) submits an amended version of its Rate Schedule FERC No. 1, reflecting changes to its bylaws adopted by vote of the WECC Membership and the WECC Board of Directors.

Filed Date: 06/08/2005.

Accession Number: 20050613-0102.

Comment Date: 5 p.m. Eastern Time on Wednesday, June 29, 2005.

Docket Numbers: ER05-1092-000.

Applicants: Hess Energy Power & Gas Company, LLC.

Description: Hess Energy Power & Gas Co, LLC submits its Notice of Cancellation of its Rate Schedule FERC No. 1 to become effective 6/9/2005.

Filed Date: 06/09/2005.

Accession Number: 20050613-0012.

Comment Date: 5 p.m. Eastern Time on Thursday, June 30, 2005.

Docket Numbers: ER05-1094-000.

Applicants: MidAmerican Energy Company.

Description: MidAmerican Energy Company submits a notice of cancellation of the Interconnection Agreement with Omaha Public Service Company.

Filed Date: 06/08/2005.

Accession Number: 20050614-0087.

Comment Date: 5 p.m. Eastern Time on Wednesday, June 29, 2005.

Docket Numbers: ER05-1095-000.

Applicants: Smarr EMC.

Description: Smarr EMC submits notice of termination of a long-term wholesale power purchase agreement designated as Supplement 11 to its Rate Schedule FERC 1 to be effective as of 2/3/2005.

Filed Date: 06/08/2005.

Accession Number: 20050614-0098.

Comment Date: 5 p.m. Eastern Time on Wednesday, June 29, 2005.

Docket Numbers: ER05-1096-000.

Applicants: MidAmerican Energy Company.

Description: MidAmerican Energy Company submits First Revised Service Agreement No. 255, an amendment to the Network Integration Transmission Service Agreement and the Network Operating Agreement with Resale Power Group of Iowa, as agent for the City of Hudson, Iowa.

Filed Date: 06/09/2005.

Accession Number: 20050614-0094.

Comment Date: 5 p.m. Eastern Time on Thursday, June 30, 2005.

Docket Numbers: ER05-1097-000.

Applicants: BJ Energy LLC.

Description: BJ Energy LLC submits petition for acceptance of inital rate schedule, waviers & blanket authority under ER05-1097.

Filed Date: 06/09/2005.

Accession Number: 20050614-0093.

Comment Date: 5 p.m. Eastern Time on Thursday, June 30, 2005.

Docket Numbers: ER05-1098-000; EL05-125-000.

Applicants: New York Independent System Operator, Inc.

Description: The New York Independent System Operator, Inc. submits the proposed revisions to its Market Administration & Control Area Services Tariff to prospectively exempt Fixed Block Units that substantially achieve their scheduled output level from persistent undergeneration penalities and request for waiver of persistent undergeneration penalties to the extent they were or will be imposed on Fixed Block Units.

Filed Date: 06/08/2005.

Accession Number: 20050614-0089.

Comment Date: 5 p.m. Eastern Time on Wednesday, June 29, 2005.

Docket Numbers: ER05-1099-000.

Applicants: E Minus Energy Corporation.

Description: Petition for acceptance of initial rate schedule, waivers and blanket authority re E Minus Energy Corporation.

Filed Date: 06/09/2005.

Accession Number: 20050614-0132.

Comment Date: 5 p.m. Eastern Time on Thursday, June 30, 2005.

Docket Numbers: ER05-1100-000.

Applicants: PJM Interconnection L.L.C.

Description: PJM Interconnection, LLC submits an executed interconnection service agreement and an executed construction service agreement with Wind Park Bear Creek, LLC and PPL Electric Utilities and a notice of cancellation of an interim interconnection service agreement that has been superseded.

Filed Date: 06/09/2005.

Accession Number: 20050614-0102.

Comment Date: 5 p.m. Eastern Time on Thursday, June 30, 2005.

Docket Numbers: ER05-399-002.

Applicants: Savannah Electric and Power Company.

Description: Southern Company Services Inc., as agent for Savannah Electric and Power Company and Georgia Power Company submits a letter reporting that Savannah is making no refund payment to Georgia Power because no revenues were collected prior to acceptance of the Transmission Facilities Agreement.

Filed Date: 06/09/2005.

Accession Number: 20050610-0003.

Comment Date: 5 p.m. Eastern Time on Thursday, June 30, 2005.

Docket Numbers: ER05-859-001.

Applicants: ATPower & Energy, LLC.

Description: ATPower & Energy, LLC submits an Amended Petition for Acceptance of Initial Rate Schedule, Waivers & Blanket Authority.

Filed Date: 06/09/2005.

Accession Number: 20050614-0096.

Comment Date: 5 p.m. Eastern Time on Thursday, June 30, 2005.

Docket Numbers: ER05-931-001.

Applicants: Florida Power Corporation.

Description: Florida Power Corporation dba Progress Energy Florida, Inc. submits revisions to its 5/3/05 annual cost factor updates for interchange service to the Florida wholesale customers under ER05-931.

Filed Date: 06/08/2005.

Accession Number: 20050614-0084.

Comment Date: 5 p.m. Eastern Time on Wednesday, June 29, 2005.

Docket Numbers: ER05-982-001.

Applicants: Prime Power Sales I., L.L.C.

Description: Supplement to application of Prime Power Sales I, L.L.C. filed 5/18/2005 for an order accepting initial rate schedule for filing (Rate Schedule 1), waiving regulations and granting blanket approvals.

Filed Date: 06/09/2005.

Accession Number: 20050610-0057.

Comment Date: 5 p.m. Eastern Time on Thursday, June 30, 2005.

Docket Numbers: ER97-2801-006; ER03-478-005; EL05-95-000.

Applicants: PacifiCorp.

Description: PacifiCorp and PPM Energy, Inc. provide their first filing in compliance with FERC's 5/9/05 order, 111 FERC 61,205 (2005) .

Filed Date: 06/08/2005.

Accession Number: 20050614-0121.

Comment Date: 5 p.m. Eastern Time on Wednesday, June 29, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Linda Mitry,
Deputy Secretary.

[FR Doc. E5-3197 Filed 6-20-05; 8:45 am]

BILLING CODE 6717-01-P